DEPARTMENT OF THE INTERIOR

National Park Service

Notice of Inventory Completion for Native American Human Remains in the Possession of the Washington State Historical Society, Tacoma, WA

AGENCY: National Park Service.

ACTION: Notice.

Notice is hereby given in accordance with provisions of the Native American Graves Protection and Repatriation Act (NAGPRA), 43 CFR 10.9, of the completion of an inventory of human remains in the possession of the Washington State Historical Society, Tacoma, WA. This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Washington State Historical Society professional staff in consultation with representatives of the Puyallup Tribe of the Puyallup Reservation, Washington.

At an unknown date, human remains representing four individuals came into the collection of the Washington State Historical Society through unknown circumstances. No known individuals were identified. No associated funerary objects are present.

No museum documentation exists to identify the origin of these human remains, and all identified possible donors of these human remains are now deceased. Based on skeletal morphology, these individuals have been identified as Native American.

Based on the above-mentioned information, officials of the Washington State Historical Society have determined that, pursuant to 43 CFR 10.2 (d)(1), the human remains listed above represent the physical remains of four individuals of Native American ancestry. Officials of the Washington State Historical Society have further determined that, pursuant to 43 CFR 10.2 (e), there is no relationship of shared group identity that can be reasonably traced between these Native American human remains and any Indian tribe. Pursuant to the NAGPRA Review Committee's recommendations at the April 2-4, 2000 meeting in Juneau, AK, officials of the Washington State Historical Society are proceeding with the repatriation of these Native American human remains to the Puyallup Tribe of the Puyallup Reservation, Washington. This notice has been sent to officials of the Puyallup Tribe of the Puyallup Reservation, Washington. Representatives of any other Indian tribe that believes itself to be culturally affiliated with these human remains should contact Lynette Miller, Curator, Washington State Historical Society, 315 North Stadium Way, Tacoma, WA 98403, telephone (253) 798-5925, before August 21, 2000. Repatriation of the human remains to the Puyallup Tribe of the Puyallup Reservation, Washington may begin after that date if no additional claimants come forward.

Dated: June 19, 2000.
John Robbins,
Assistant Director, Cultural Resources Stewardship and Partnerships.

[FR Doc. 00-18467 Filed 7-20-00; 8:45 am]

BILLING CODE 4310-70-F